DEPARTMENT OF COMMERCE

National Institute of Standards and Technology

Prospective Grant of Exclusive Patent License

AGENCY: National Institute of Standards and Technology, Commerce.

ACTION: Notice of prospective grant of exclusive patent license.

SUMMARY: This is a notice in accordance with 35 U.S.C. 209(e) and 37 CFR 404.7(a)(1)(i) that the National Institute of Standards and Technology (“NIST”), U.S. Department of Commerce, is contemplating the grant of an exclusive license in the United States of America, its territories, possessions and commonwealths, to NIST's interest in the invention embodied in Provisional Application for Patent Application No. 61,638,362 titled “Flow Cytometer Systems and Associated Methods,” NIST Docket No. 11-010 to the Regents of the University of Colorado, having a place of business at 1800 Grant Street, 8th Floor, Denver, CO 80203. The grant of the license would be for all fields of use.

FOR FURTHER INFORMATION CONTACT: Cathy Cohn, National Institute of Standards and Technology, Technology Partnerships Office, 100 Bureau Drive, Stop 2200, Gaithersburg, MD 20899, (301) 975-6691, fax: (301) 975-3482, or email: ccohn@nist.gov.

SUPPLEMENTARY INFORMATION: The prospective exclusive license will be royalty bearing and will comply with the terms and conditions of 35 U.S.C. 209 and 37 CFR 404.7. The prospective exclusive license may be granted unless, within fifteen days from the date of this published Notice, NIST receives written evidence and argument which establish that the grant of the license would not be consistent with the requirements of 35 U.S.C. 209 and 37 CFR 404.7.

Provisional Application for Patent Application No. 61,638,362 is co-owned by the U.S. government, as represented by the Secretary of Commerce and the Regents of the University of Colorado. The invention is a flow cytometer system for algal cells which includes a flow cell having an interrogation region, a long wavelength illuminator for illuminating algal cells entering the interrogation region, and a short wavelength illuminator for exciting fluorescence within the algal cells. The system also includes one or more photodetectors for measuring the fluorescence, and a data acquisition system that detects the illuminated algal cells in the interrogation region. The data acquisition system controls the illuminators to provide specific conditions for stimulating the fluorescence, and acquires data from the one or more photodetectors to provide information of the algal cells.

Dated: August 8, 2012.
Willie E. May,
Associate Director for Laboratory Programs.

[FR Doc. 2012-19805 Filed 8-10-12; 8:45 am]

BILLING CODE 3510-13-P